FEDERAL MARITIME COMMISSION

Ocean Transportation Intermediary License; Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
002833F | Barry International Forwarding, Inc., 88 Black Falcon Ave., Suite 167, Boston, MA 02210 | February 9, 2006.
003984F | Superior Shipping, Inc., 3039 N.E., Quayside Lane, Miami, FL 33138 | June 2, 2005.

Peter J. King,
Deputy Director, Bureau of Certification and Licensing.

[FR Doc. E6-5426 Filed 4-11-06; 8:45 am]

BILLING CODE 6730-01-P